DEPARTMENT OF TRANSPORTATION

Federal Aviation Administration

14 CFR Parts 121 and 145

[AC 120-66C]

Advisory Circular for Aviation Safety Action Program (ASAP)

AGENCY: Federal Aviation Administration (FAA), DOT.

ACTION: Notice of availability of proposed revision to Advisory Circular for Aviation Safety Action Program (ASAP); Extension of comment period.

SUMMARY: This action extends the comment period for the Notice of availability of proposed revision to Advisory Circular for Aviation Safety Action Program (ASAP) that was published on September 5, 2014. In that document, the FAA proposed to clarify FAA policy, facilitate achievement of an ASAP's safety goals, and encourage wider participation in the program. Multiple industry groups have requested that the FAA extend the comment period closing date to allow time to prepare comments.

DATES: The comment period for the Notice of availability of proposed revision to Advisory Circular for Aviation Safety Action Program (ASAP) published on September 5, 2014, was scheduled to close on November 4, 2014, and is extended until January 5, 2015.

ADDRESSES: You may send comments identified by AC 120-66C using any of the following methods:

• Aviation Safety Draft Document Open for Comment Web site: Go to http://www.faa.gov/aircraft/draft_docs/afs_ac/ and follow the online instructions for sending your comments electronically.

• Mail: Send comments to 1625 K Street NW., Suite 300, Washington, DC 20006.

• Fax: Fax comments to 202-223-4615. Attn: Laura L. Miller.

• Hand Delivery: Bring comments to 1625 K Street NW., Suite 300, Washington, DC between 9 a.m. and 5 p.m., Monday through Friday, except Federal holidays.

FOR FURTHER INFORMATION CONTACT: Randy McDonald, Air Transportation Division, Flight Standards Service, Federal Aviation Administration, 800 Independence Avenue SW., Washington, DC 20591; telephone: 202-267-8166; facsimile: 202-267-5229; email: randy.mcdonald@faa.gov.

Background

On September 5, 2014, the Federal Aviation Administration (FAA) published a notice in the Federal Register (79 FR 53008) announcing the availability of proposed Advisory Circular (AC) 120-66C. AC 120-66C provides guidance for establishing an air transportation Aviation Safety Action Program (ASAP). The comment period for that notice was to have closed November 4, 2014.

The FAA has reviewed the requests made by multiple industry groups for extension of the comment period to Notice of availability of proposed revision to Advisory Circular for Aviation Safety Action Program (ASAP). These petitioners have shown a substantive interest in the contents of the Notice and good cause for the extension. The FAA has determined that extension of the comment period is consistent with the public interest, and that good cause exists for taking this action.

Accordingly, the comment period for Notice of availability of proposed revision to Advisory Circular for Aviation Safety Action Program (ASAP) is extended until January 5, 2015.

John S. Duncan,
Director, Flight Standards Service.

[FR Doc. 2014-26212 Filed 11-3-14; 8:45 am]

BILLING CODE 4910-13-P